DEPARTMENT OF LABOR

Employment and Training Administration

[TA-W-50,550]

Maine Brand Manufacturing, Inc., Littleton, ME; Notice of Termination of Investigation

Pursuant to section 221 of the Trade Act of 1974, an investigation was initiated on January 14, 2003, in response to a petition filed by a company official on behalf of workers at Maine Brand Manufacturing, Inc., Littleton, Maine.

The petitioner has requested that the petition be withdrawn. Consequently, further investigation in this case would serve no purpose and the investigation has been terminated.

Signed in Washington, DC this 14th day of February 2003.
Richard Church,
Certifying Officer, Division of Trade Adjustment Assistance.

[FR Doc. 03-5547 Filed 3-7-03; 8:45 am]

BILLING CODE 4510-30-P